POSTAL SERVICE

Privacy Act of 1974; System of Records

AGENCY: Postal Service™.

ACTION: Notice of a revised system of records.

SUMMARY: The United States Postal Service (USPS™) is proposing to revise a General Privacy Act System of Records to support an initiative sponsored by the United States Postal Inspection Service to conduct link analysis for investigative purposes.

DATES: These revisions will become effective without further notice on January 18, 2022, unless comments received on or before that date result in a contrary determination.

ADDRESSES: Comments may be submitted via email to the Privacy and Records Management Office, United States Postal Service Headquarters (privacy@usps.gov). Arrangements to view copies of any written comments received, to facilitate public inspection, will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to an existing system of records (SOR) to support the implementation of a link analysis to be conducted by the United States Postal Inspection Service through the introduction of new investigative software.

I. Background

The United States Postal Inspection Service (USPIS) is focused on continuous improvement in the effort to stay one-step ahead of bad actors and to preserve the sanctity of the mail. To further this objective, USPIS is implementing a process to conduct a link analysis across multiple disparate Postal systems to aggregate data and increase efficiency. This process will automate the analysis process in part, reducing manual effort by Postal Inspectors and Inspection Service analysts.

Disclosure of relevant information or records derived from general and customer systems is authorized by the Privacy Act under USPS Routine Use number two, Disclosure for Law Enforcement Purposes.

II. Rationale for Changes to USPS Privacy Act Systems of Records

The Postal Service is proposing to modify USPS SOR 700.000, Inspection Service Investigative File System, to accommodate the process proposed by USPIS. USPIS will collect and aggregate eight data elements—Name, Address, 11-Digit Delivery Point ZIP Code (ZIP 11), Phone Number, Email Address, Tracking Number, IP Address, and Moniker—from the following four data sources: Customer Registration, Inspection Service Investigative File System, Click-n-Ship, and National Meter Accounting and Tracking System (NMATS).

To effect this change, one new purpose has been added to the existing SOR to reflect the usage of these data elements to conduct the link analysis. Further, the eight enumerated data elements have been added as a new Category of Records.

III. Description of the Modified System of Records

Pursuant to 5 U.S.C. 552a(e)(11), interested persons are invited to submit written data, views, or arguments on this proposal. A report of the proposed revisions has been sent to Congress and to the Office of Management and Budget for their evaluations. The Postal Service does not expect this amended system of records to have any adverse effect on individual privacy rights. The notice for USPS 700.000, Inspection Service Investigative File System, provided below in its entirety, is as follows:

SYSTEM NAME AND NUMBER:

USPS 700.000, Inspection Service Investigative File System.

SECURITY CLASSIFICATION:

None.

SYSTEM LOCATION:

Office of the Chief Postal Inspector, USPS Headquarters; Inspection Service Human Resources Service Center, Security Investigation Service Center, and Criminal Investigation Service Center; Inspectors-in-Charge.

SYSTEM MANAGER(S) AND ADDRESS:

Chief Postal Inspector, Inspection Service, United States Postal Service, 475 L'Enfant Plaza SW, Washington, DC 20260.

AUTHORITY FOR MAINTENANCE OF THE SYSTEM:

39 U.S.C. 401 and 404; and 18 U.S.C. 3061.

PURPOSE(S) OF THE SYSTEM:

1. To support investigations of criminal, civil, or administrative matters, including applicant, employee, and contractor background investigations.

2. To conduct link analysis from disparate data sources in support of criminal investigations.

CATEGORIES OF INDIVIDUALS COVERED BY THE SYSTEM:

1. Subjects of investigations; complainants, informants, witnesses, and other individuals in investigations.

2. Applicants, current and former USPS employees, contractors, and other individuals providing information related to employment suitability checks.

3. Applicants for and appointees to sensitive positions in USPS, and individuals providing information related to security clearance checks on those individuals.

CATEGORIES OF RECORDS IN THE SYSTEM:

1. Records related to investigations, including person name(s), Social Security Number(s), case number, addresses, reports of postal inspectors and third parties; physical identifying characteristics (including fingerprints, voiceprints, handwriting samples, polygraph tests, photographs, or other biometrics); and employment and payroll information maintained by USPS.

2. Records related to investigative data source link analysis, including Name, Address, 11-Digit Delivery Point ZIP Code (ZIP 11), Phone Number, Email Address, Tracking Number, IP Address, and Moniker.

RECORD SOURCE CATEGORIES:

Subjects, applicants, applicant references, employees, complainants, witnesses, other systems of records, other government agencies, and external public or private sources.

ROUTINE USES OF RECORDS MAINTAINED IN THE SYSTEM, INCLUDING CATEGORIES OF USERS AND THE PURPOSES OF SUCH USES:

Standard routine uses 1. through 9. apply. In addition:

a. A record from this system may be disclosed to the public, news media, trade associations, or organized groups to provide information of interest to the public about the activities and the accomplishments of USPS or its employees.

b. A record relating to a person held in custody pending or during arraignment, trial, sentence, or extradition proceedings or after conviction may be disseminated to a federal, state, local, or foreign prison, probation, parole, or pardon authority or to any other agency or individual involved with the maintenance, transportation, or release of such a person.

c. A record relating to a case or matter may be disseminated to a foreign country, through the United States Department of State or directly to the representative of such country, under an international treaty, convention, or executive agreement; or to the extent necessary to assist such country in apprehending or returning a fugitive to a jurisdiction that seeks that individual's return.

POLICIES AND PRACTICES FOR STORAGE OF RECORDS:

Automated database, computer storage media, and paper.

POLICIES AND PRACTICES FOR RETRIEVAL OF RECORDS:

By name or other personal identifier, subject category, or assigned case number.

POLICIES AND PRACTICES FOR RETENTION AND DISPOSAL OF RECORDS:

Records are retained up to 15 years. Exceptions may be granted for longer retention in specific instances. Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURE:

Individuals wanting to know if information about them is maintained in this system of records must address inquiries to the system manager and include full name, address, and information sufficient to ascertain the investigation and the individual's involvement.

EXEMPTION(S) PROMULGATED FOR THE SYSTEM:

Pursuant to 5 U.S.C. 552a(j) and (k), USPS has established regulations at 39 CFR 266.9 that exempt records in this system depending on their purpose.

HISTORY:

April 29, 2005, 70 FR 22516.

* * * * *

Ruth Stevenson,
Chief Counsel, Ethics & Legal Compliance.

[FR Doc. 2021-27303 Filed 12-16-21; 8:45 am]

BILLING CODE 7710-12-P